DEPARTMENT OF ENERGY

Federal Energy Regulatory Commission

[Docket No. AD10-12-016]

Increasing Market and Planning Efficiency Through Improved Software; Supplemental Notice of Technical Conference on Increasing Real-Time and Day-Ahead Market and Planning Efficiency through Improved Software

As first announced in the Notice of Technical Conference issued in this proceeding on January 29, 2025, Commission staff will convene a technical conference on July 8, 9, and 10, 2025 to discuss opportunities for increasing real-time and day-ahead market and planning efficiency of the bulk power system through improved software. Attached to this Supplemental Notice is the agenda for the technical conference and presenters' summaries of their presentations.

While the intent of the technical conference is not to focus on any specific matters before the Commission, some conference discussions might include topics at issue in proceedings that are currently pending before the Commission. These proceedings include, but are not limited to:

| Docket No.
PJM Interconnection, L.L.C | ER24-2045-000
Southwest Power Pool, Inc | ER24-1317-000
Southwest Power Pool, Inc | ER24-1658-000
Southwest Power Pool, Inc | ER22-1697-000
Midcontinent Independent System Operator, Inc | ER22-1640-000
New York Independent System Operator, Inc | ER25-1998-000
PJM Interconnection, L.L.C | ER22-962-000

The conference will allow presenters and attendees to participate either in-person or virtually. Further details on both in-person and virtual participation will be available on the conference web page.¹

¹ https://www.ferc.gov/news-events/events/increasing-real-time-and-day-ahead-market-and-planning-efficiency-through-1

Attendees are requested to register through the Commission's website on or before June 10, 2025. Registration will help ensure that Commission staff can provide sufficient physical and virtual facilities and to communicate with attendees in the case of unanticipated emergencies or other changes to the conference schedule or location. Access to the conference (virtual or in-person) may not be available to those who do not register by June 10.

Slides are due from selected presenters by 5:00 p.m. EDT on June 30, 2025. Before 1:00 p.m. EDT on July 7, 2025, Commission staff will work with presenters to provide quality assurance that their presentation materials are prepared, formatted correctly, and ready for delivery during the conference. All updates to slides submitted before 1:00 p.m. on July 7, 2025 will be posted to the Commission website in advance of the conference. Any updated slides submitted after 1:00 p.m. on July 7, 2025 will be posted to the Commission website after the conference; however, the live conference will use the slide versions submitted before 1:00 p.m. on July 7, 2025.

The Commission will accept comments following the conference, with a deadline of August 11, 2025.

There is an “eSubscription” link on the Commission's website that enables subscribers to receive email notification when a document is added to a subscribed docket(s). For assistance with any FERC Online service, please email FERCOnlineSupport@ferc.gov, or call (866) 208-3676 (toll free). For TTY, call (202) 502-8659.

FERC conferences are accessible under section 508 of the Rehabilitation Act of 1973. For accessibility accommodations please send an email to accessibility@ferc.gov or call toll free (866) 208-3372 (voice) or (202) 502-8659 (TTY), or send a fax to (202) 208-2106 with the required accommodations.

For further information about these conferences, please contact:

Sarah McKinley (Logistical Information), Office of External Affairs, Sarah.McKinley@ferc.gov, 202-502-8368

Monica Ferrera (Technical Information), Office of Energy Policy and Innovation, Monica.Ferrera@ferc.gov, 202-502-6061

Dated: May 9, 2025.
Debbie-Anne A. Reese,
Secretary.

[FR Doc. 2025-08636 Filed 5-14-25; 8:45 am]

BILLING CODE 6717-01-P